DEPARTMENT OF COMMERCE

Bureau of Industry and Security

15 CFR Part 774

[Docket No. 020830206-2206-01]

RIN 0694-AC51

Missile Technology Production Equipment and Facilities

AGENCY: Bureau of Industry and Security, Commerce.

ACTION: Final rule.

SUMMARY: To clarify Department of Commerce controls, Commerce is revising the language contained in Export Control Classification Numbers (ECCNs) 1B115, 1B117, 9B115, and 9B116 to reflect that all missile technology (MT) production equipment and facilities are controlled on the Commerce Control List (CCL) of the Export Administration Regulations (EAR).

DATES: This rule is effective: September 18, 2002.

FOR FURTHER INFORMATION CONTACT: Steve Clagett, Director, Nuclear and Missile Technology Controls Divisions, Bureau Industry and Security, Telephone: (202) 482-1641.

SUPPLEMENTARY INFORMATION

Background

Since 1998, ECCNs 1B115, 1B117, 9B115 and 9B116, have referred exporters to the International Traffic in Arms Regulations (ITAR), administered by the Department of State, Office of Defense Trade Controls, for licensing requirements for equipment specially designed for production of MT items subject to the ITAR. This rule clarifies that all production equipment for MT items, described in ECCNs 1B115, 1B117, 9B115 and 9B116, is subject to the EAR and controlled on the CCL. The Departments of Commerce, State and Defense are currently reviewing the control jurisdiction for specific items of equipment specially designed for the production of certain MT items that are subject to the ITAR. This review may result in future revisions to the EAR and the ITAR with respect to specific items of specially designed MT production equipment.

Specifically, the following changes are made to the following ECCNs:

1B115: Notes 1 and 2 are removed from the Related Controls paragraph of the List of Items Controlled section.

1B117: Notes 2 and 4 are removed from the Related Controls paragraph of the List of Items Controlled section.

9B115 and 9B116: The heading is revised and License Requirements, License Exceptions, and List of Items Controlled sections are added.

Although the Export Administration Act expired on August 20, 2001, Executive Order 13222 of August 17, 2001 (66 FR 44025, August 22, 2001), as extended by the Notice of August 14, 2002 (67 FR 53721, August 16, 2002), continues the Regulations in effect under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act, unless that collection of information displays a currently valid Office of Management and Budget Control Number. This rule involves a collection of information subject to the Paperwork Reduction Act of 1980 (44 U.S.C. 3501 et seq.). This collection has been approved by the Office of Management and Budget under control number 0694-0088, “Multi-Purpose Application,” which carries a burden hour estimate of 45 minutes for a manual submission and 40 minutes for an electronic submission.

3. This rule does not contain policies with Federalism implications as this term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this interim rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Matthew Blaskovich, Office of Exporter Services, Bureau of Industry and Security, Department of Commerce, P.O. Box 273, Washington, D.C. 20044, or mblaskov@bis.doc.gov.

List of Subjects in 15 CFR Part 774

Exports, Foreign trade.

Accordingly, part 774 of the Export Administration Regulations (15 CFR parts 730-799) is amended as follows:

PART 774—[AMENDED]

1. The authority citation for 15 CFR part 774 is revised to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 14, 2002, 67 FR 53721, August 16, 2002.

2. In Supplement No. 1 to part 774 (the Commerce Control List), Category 1—Materials, Chemicals, Microorganisms, and Toxins, Export Control Classification Number (ECCN) 1B115 is amended by revising the List of Items Controlled section, and ECCN 1B117 is amended by revising the Related Controls paragraph in the List of Items Controlled section, to read as follows:

1B115 “Production equipment” for the production, handling or acceptance testing of liquid propellants or propellant constituents controlled by 1C011, 1C111 or on the U.S. Munitions List, and specially designed components therefor.

* * * * *

List of Items Controlled

Unit: Equipment in number; components in $ value

Related Controls: N/A

Related Definitions: N/A

Items: The list of items controlled is contained in the ECCN heading.

* * * * *

1B117 “Production equipment”, as follows (see List of Items Controlled), for the production, handling or acceptance testing of solid propellants or propellant constituents controlled by 1C011, 1C111 or on the U.S. Munitions List.

* * * * *

List of Items Controlled

Unit: * * *

Related Controls: 1.) See also 1B115. 2.) This entry does not control equipment for the “production”, handling and acceptance testing of boron carbide.

Related Definitions: * * *

Items:

* * * * *

3. In Supplement No. 1 to part 774 (the Commerce Control List), Category 9—Propulsion Systems, Space Vehicles and Related Equipment, Export Control Classification numbers (ECCNs) 9B115 and 9B116 are revised to read as follows:

9B115 Specially designed “production equipment” for the systems, sub-systems and components controlled by 9A004 to 9A009, 9A011, 9A101, 9A104 to 9A109, 9A111, 9A116 to 9A119.

License Requirements

Reason for Control: MT, AT

Control(s) | Country chart
MT applies to entire entry | MT Column 1
AT applies to entire entry | AT Column 1

License Exceptions

LVS: N/A

GBS: N/A

CIV: N/A

List of Items Controlled

Unit: Equipment in number; components in $ value

Related Controls: Although items described in ECCNs 9A004 to 9A009, 9A101, 9A104 to 9A109; 9A111, 9A116 to 9A119 are subject to the export licensing authority of the Department of State, Office of Defense Trade Controls (22 CFR part 121), the “production equipment” controlled in this entry that is related to these items is subject to the export licensing authority of BIS.

Items: The list of items controlled is contained in the ECCN heading.

9B116 Specially designed “production facilities” for the systems, sub-systems, and components controlled by 9A004 to 9A009, 9A011, 9A101, 9A104 to 9A109, 9A111, 9A116 to 9A119.

License Requirements

Reason for Control: MT, AT

Control(s) | Country chart
MT applies to entire entry | MT Column 1
AT applies to entire entry | AT Column 1

License Exceptions

LVS: N/A

GBS: N/A

CIV: N/A

List of Items Controlled

Unit: Equipment in number; components in $ value

Related Controls: Although items described in ECCNs 9A004 to 9A009, 9A101, 9A104 to 9A109; 9A111, 9A116 to 9A119 are subject to the export licensing authority of the Department of State, Office of Defense Trade Controls (22 CFR part 121), the “production equipment” controlled in this entry that is related to these items is subject to the export licensing authority of BIS.

Items: The list of items controlled is contained in the ECCN heading.

* * * * *

Dated: September 11, 2002.
James J. Jochum,
Assistant Secretary for Export Administration.

[FR Doc. 02-23716 Filed 9-17-02; 8:45 am]

BILLING CODE 3510-33-P